DEPARTMENT OF COMMERCE

Office of the Secretary

[Docket No.: 061121305-7005-02]

Privacy Act of 1974: System of Records

AGENCY: Department of Commerce.

ACTION: Final notice to amend a Privacy Act System of Records: COMMERCE/DEPARTMENT-18, “Employees' Personnel Files Not Covered by Notices of Other Agencies.”

SUMMARY: The Department of Commerce (Commerce) publishes this notice to announce the amendment of a Privacy Act System of Records entitled COMMERCE/DEPARTMENT-18, “Employees' Personnel Files Not Covered by Notices of Other Agencies.”

DATES: The system of records becomes effective on February 9, 2007.

ADDRESSES: For a copy of the system of records please mail requests to Phyllis Alexander, Office of Human Resources Management, Room 5001, 1401 Constitution Avenue, NW., Washington, DC 20230, 202-482-4807.

FOR FURTHER INFORMATION CONTACT: Phyllis Alexander, Office of Human Resources Management, Room 5001, 1401 Constitution Avenue, NW., Washington, DC 20230, 202-482-4807.

SUPPLEMENTARY INFORMATION: On December 11, 2006, the Commerce Department published and requested comments on a proposed amended Privacy Act System of Records entitled COMMERCE/DEPARTMENT-18, “Employees' Personnel Files Not Covered by Notices of Other Agencies.” No comments were received in response to the request for comments. By this notice, the Department is adopting the proposed system as final without changes effective February 9, 2007.

Dated: February 5, 2007.
Brenda Dolan,
Department of Commerce, Freedom of Information and Privacy Act Officer.

[FR Doc. E7-2173 Filed 2-8-07; 8:45 am]

BILLING CODE 3510-BW-P